DEPARTMENT OF TRANSPORTATION

Federal Railroad Administration

[Docket No. FRA-2025-0061]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before February 2, 2026.

ADDRESSES: Written comments and recommendations for the proposed ICR should be submitted on www.regulations.gov to Docket No. FRA-2025-0061. All comments received will be posted without change to the docket, including any personal information provided. Please refer to the assigned OMB control number (2130-0504) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Special Notice for Repairs.

OMB Control Number: 2130-0504.

Abstract: Under 49 CFR part 216, FRA and State inspectors may issue a Special Notice for Repairs to notify a railroad in writing of an unsafe condition involving a locomotive, car, or track. The railroad must notify FRA in writing when the equipment is returned to service or the track is restored to a condition permitting operations at speeds authorized for a higher class, specifying the repairs completed. FRA and State inspectors use this information to remove from service freight cars, passenger equipment, and locomotives until they can be restored to a serviceable condition. They also use this information to reduce the maximum authorized speed on a section of track until repairs can be made.

In this 60-day notice, FRA made no changes to the previously approved burden hours or responses.

Type of Request: Extension without change of a currently approved collection.

Affected Public: Businesses.

Form(s): FRA F 6180.8; FRA F 6180.8a.

Respondent Universe: 754 railroads.

Frequency of Submission: On occasion.

Reporting Burden:

Section ¹ | Respondent universe | Total annual responses | Average time per response | Total annual burden hours | Wage rate ² | Total annual dollar cost equivalent
|  | (A) | (B) | (C) = A * B |  | (D) = C * wage rates
216.13 Special notice for repairs—locomotive
—(b) RR reply to special notice for repair informing FRA that affected locomotive is returned to service—FRA Form F 6180.8 | 754 railroads | 5 forms | 15 minutes | 1.25 | $89.13 | $111.41
216.14 Special notice for repairs—passenger equipment
—(b) RR notification in writing that equipment is returned to service | The estimated paperwork burden for this requirement is covered under OMB Control Number 2130-0544 (see §§ 238.15 through 238.19).
216.15 Special notice for repairs—track class
—(b) RR reply to special notice for repair informing FRA that affected track is restored to condition permitting operations at higher speeds—FRA Form F 6180.8a | 754 railroads | 1 form | 15 minutes | 0.25 | 89.13 | 22.28
216.17 Appeals
—RR's right to appeal decision | FRA anticipates zero appeal requests during this 3-year ICR period.
216.21 Notice of track conditions
—(b) Letter from RR to FRA Staff Director that affected track has been repaired and is ready for re-inspection | 754 railroads | 1 letter | 1 hour | 1 | 89.13 | 89.13
Total ³ | 754 railroads | 7 responses |  | 3 |  | 222.82

Total Estimated Annual Responses: 7.

¹ Section 216.25, Issuance and review of emergency order is exempt from the PRA under 5 CFR 1320.4(a)(2) and has been removed from the table. This adjustment has no impact on burden hours.

² The dollar equivalent cost is derived from the 2023 Surface Transportation Board Full Year Wage A&B data series using employee group 200 (Professional Administrative Staff) hourly wage rate of $50.93. The total burden wage rate (straight time plus 75%) used in the table is $89.13 ($50.93 × 1.75 = $89.13).

³ Totals may not add due to rounding.

Total Estimated Annual Burden: 3 hours.

Total Estimated Annual Burden Hour Dollar Cost Equivalent: $222.82.

FRA informs all interested parties that it may not conduct or sponsor, and a respondent is not required to respond to, a collection of information that does not display a currently valid OMB control number.

(Authority: 44 U.S.C. 3501-3520)

Christopher S. Van Nostrand,
Deputy Chief Counsel.

[FR Doc. 2025-21846 Filed 12-2-25; 8:45 am]

BILLING CODE 4910-06-P